DEPARTMENT OF TRANSPORTATION

Federal Motor Carrier Safety Administration

[Docket No. FMCSA-2023-0113]

Parts and Accessories Necessary for Safe Operation; Exemption for Great Lakes Timber Professionals Association

AGENCY: Federal Motor Carrier Safety Administration (FMCSA), Department of Transportation (DOT).

ACTION: Notice of final disposition; grant of application for exemption.

SUMMARY: FMCSA announces its decision to grant a limited 5-year exemption to the Great Lakes Timber Professionals Association (GLTPA) on behalf of motor carriers in Wisconsin to use cargo securement methods that do not comply with the Federal Motor Carrier Safety Regulations (FMCSRs) for securing shortwood logs transported lengthwise in crib-type vehicles that have been modified or manufactured without front structures, rear structures, or which have a center-mounted crane for loading and unloading. The Agency has determined that the use of the alternate cargo securement method will likely achieve a level of safety that is equivalent to, or greater than the level of safety achieved by the current regulation.

DATES: This exemption is effective September 10, 2024 through September 10, 2029, unless revoked earlier.

FOR FURTHER INFORMATION CONTACT: David Sutula, Vehicle and Roadside Operations Division, Office of Carrier, Driver, and Vehicle Safety, FMCSA, 1200 New Jersey Avenue SE, Washington, DC 20590-0001; (202) 366-9209; MCPSV@dot.gov. If you have questions on viewing or submitting material to the docket, call Dockets Operations at (202) 366-9826.

SUPPLEMENTARY INFORMATION:

I. Public Participation; Viewing Comments and Documents

To view comments, go to www.regulations.gov, insert the docket number “FMCSA-2023-0113” in the keyword box, and click “Search.” Next, sort the results by “Posted (Newer-Older),” choose the first notice listed, and click “Browse Comments.”

To view documents mentioned in this notice as being available in the docket, go to www.regulations.gov, insert the docket number “FMCSA-2023-0113” in the box, click “Search,” and choose the document to review.

If you do not have access to the internet, you may view the docket online by visiting Dockets Operations on the ground floor of the DOT West Building, 1200 New Jersey Avenue SE, Washington, DC 20590-0001, between 9 a.m. and 5 p.m. ET, Monday through Friday, except Federal holidays. To be sure someone is there to help you, please call (202) 366-9317 or (202) 366-9826 before visiting Dockets Operations.

II. Legal Basis

FMCSA has authority under 49 U.S.C. 31136(e) and 31315(b) to grant exemptions from Federal Motor Carrier Safety Regulations (FMCSRs). FMCSA must publish a notice of each exemption request in the Federal Register (49 CFR 381.315(a)). The Agency must provide the public with an opportunity to inspect the information relevant to the application, including the applicant's safety analysis. The Agency must provide an opportunity for public comment on the request.

The Agency reviews the safety analyses and the public comments submitted and determines whether granting the exemption would likely maintain a level of safety equivalent to or greater than the level that would be achieved by the current regulation (49 CFR 381.305(a)). The Agency must publish its decision in the Federal Register (49 CFR 381.315(b)). If granted, the notice will identify the regulatory provision from which the applicant will be exempt, the effective period, and all terms and conditions of the exemption (49 CFR 381.315(c)(1)). If the exemption is denied, the notice will explain the reason for the denial (49 CFR 381.315(c)(2)). The exemption may be renewed (49 CFR 381.300(b)).

III. Background

A. Current Regulatory Requirements

Section 393.116 of the FMCSRs, “What are the rules for securing logs?,” provides commodity specific cargo securement requirements for the transportation of logs on trucks and trailers and are in addition to the general cargo securement requirements specified in §§ 393.100-393.114 of the FMCSRs. Sections 393.116(b), “Components of a securement system,” and 393.116(c), “Use of securement system,” provide general requirements for the securement of logs.

Specifically with respect to the securement of shortwood logs loaded lengthwise on flatbed and frame vehicles, § 393.116(e) of the FMCSRs requires—in addition to meeting the requirements of § 393.116(b) and (c)—each stack to be cradled in a bunk unit or contained by stakes, and (1) secured to the vehicle by at least two tiedowns, or (2) if all the logs in any stack are blocked in the front by a front-end structure strong enough to restrain the load, or by another stack of logs, and blocked in the rear by another stack of logs or vehicle end structure, the stack may be secured with one tiedown. If one tiedown is used, it must be positioned about midway between the stakes, or (3) be bound by at least two tiedown-type devices such as wire rope, used as wrappers that encircle the entire load at locations along the load that provide effective securement. If wrappers are being used to bundle the logs together, the wrappers are not required to be attached to the vehicle.

However, 49 CFR 393.116(b)(3)(i) notes that tiedowns are not required for logs transported in crib-type trailers, as defined in 49 CFR 393.5, provided that the logs are loaded in compliance with §§ 393.116(b)(2) and 393.116(c) of the FMCSRs.

B. Original Exemption

GLTPA seeks an exemption from 49 CFR 393.116(b)(3) and 393.116(e) to allow motor carriers in Wisconsin to use cargo securement methods that do not comply with the FMCSRs for securing shortwood logs transported lengthwise in crib-type vehicles that have been modified or manufactured without front structures, rear structures, or which have a center-mounted crane for loading and unloading.

In its exemption application, GLTPA states that questions have arisen between industry and enforcement regarding the proper securement of logs in crib-type trailers when modifications to those trailers have been made—including the lack of a front or rear structure (either because the vehicle was manufactured without front or rear structures, or because motor carriers have removed them) and the addition of a center-mounted crane for loading and unloading the logs. GLTPA states that “In these cases because the specific definition of a crib-type vehicle has not been met, enforcement has reverted to 49 CFR 393.116(e), which addresses logs loaded lengthwise on flatbed and frame vehicles. Here, logs that are contained by structures or another stack of logs require one tie down. Stacks that do not have this containment such as end stacks without front/rear structures or those adjacent to a center-mounted crane would require two tiedowns.”

In its exemption application, GLTPA references a “Cargo Securement Enforcement Policy” memorandum, dated December 31, 2003, from the FMCSA Assistant Administrator to its Field Administrators and Division Administrators.

Specifically, as it relates to the subject exemption application, the December 2003 memorandum stated “Also, industry has requested the section 393.116 be amended to allow one tiedown per bunk, spaced equally between the standards, when transporting short length logs loaded lengthwise between the first two standards and between the last two standards. They believe the current wording requiring the use of two tiedowns is unnecessary given the bunks and standards . . . With regard to allowing the use of one tiedown per bunk for shortwood logs loaded lengthwise between the first two standards and between the last two standards, FMCSA believes one tiedown is sufficient given the standards used to protect against lateral movement.”

The GLTPA states “This language suggests that end stacks not protected by front and rear structures, but contained by stakes, bunks, or standards, would require one tiedown. By extension, this would also suggest that a crib-type trailer without front and rear structures would require one tiedown on each of the end stacks. It is GLTPA's position that the interior stacks, which are protected by adjacent stacks of logs, should not be required to have tiedowns, provided they are loaded in accordance with 49 CFR 393.116(b)(3). With the front and rear stacks secured, the configuration is essentially now acting as a crib-type vehicle.”

To ensure that this interpretation would not reduce safety, GLTPA and the Wisconsin State Patrol Motor Carrier Enforcement Section partnered to conduct cargo securement testing on stacks of shortwood logs in a crib-type vehicle using different tiedown configurations.

In considering the December 2003 FMCSA Cargo Securement Enforcement Policy memorandum, the cargo securement requirements for crib-type vehicles in the FMCSRs, and the testing described above, GLTPA requested an exemption from § 393.116 for the securement of shortwood loaded lengthwise.

In its request, GLTPA proposes specific tiedown requirements based on the structural configuration of the crib-type trailer. In instances where a crib-type trailer lacks a front structure, at least two tiedowns are required on the foremost stack, while other stacks are exempt if loaded in accordance with 49 CFR 393.116(b)(2) and 49 CFR 393.116(c). Similarly, if a crib-type trailer lacks a rear structure, a minimum of one tiedown is required on the rearmost stack, with the same exception for other stacks meeting FMCSR requirements. For vehicles with an internal gap between stacks, potentially allowing logs to move without continual contact with stakes, bunks, bolsters, or standards, at least one tiedown is necessary on the respective stack. In cases where a single tiedown is used, proper positioning is emphasized—either midway between stakes or diagonally from front to rear, crossing over the stack at its midpoint.

GLTPA states that the alternative cargo securement methods for securing shortwood logs loaded lengthwise proposed in its application will maintain a level of safety that is equivalent to, or greater than, the level of safety achieved without the exemption.

IV. Public Comments

FMCSA published a notice of the application in the Federal Register on May 11, 2023, and asked for public comment (88 FR 30382). The Agency received a total of ten comments (www.regulations.gov; docket ID: FMCSA-2023-0113), all in support of the exemption. The common comment across all submissions was the established safety and efficiency of using crib-type trailers for transporting wood products. They emphasize the positive safety record, incident-free history, and the benefits of the crib-type trailer configuration for wood log securement.

V. Equivalent Level of Safety Analysis

GLTPA and the Wisconsin State Patrol Motor Carrier Enforcement Section tested the effectiveness of a single tiedown on a stack of logs contained in a crib-type configuration. GLTPA states that specifically, the load was subjected to various simulated longitudinal g forces. Although not directly applicable to the cargo-specific requirements for logs, the tiedown performance criteria outlined in 49 CFR 393.102 was used as guidance.

GLTPA states that the testing showed that a single tiedown, on average, was able to maintain a stack of low-friction logs under winter conditions to approximately 0.5 g. This average was increased to 0.63 g for high-friction hardwood logs. It is noted that 0.8 g was obtained through the use of two tiedowns. The results demonstrated that a single tiedown, on average, effectively secured a stack of shortwood loaded lengthwise in accordance with 49 CFR 393.102. Copies of the testing performed by GLTPA and the Wisconsin State Patrol Motor Carrier Enforcement Section are contained in the docket.

Although the GLTPA test and the 2003 Enforcement Policy recommend a single tiedown on the foremost stack, feedback from GLTPA member carriers, following a review of GLTPA's proposal and test results, has supported the use of two tiedowns for enhanced driver safety. According to the GLTPA members, two tiedowns provides 0.8g which exceeds heavy vehicle braking ability, and therefore provides an added element of safety in the event of a crash.

In evaluating the safety impact of the exemption request, FMCSA considered factors such as the type of bunk compared to a crib-type trailer, log size, log direction, surface condition of the logs (low and high friction logs), quantity and position of tiedowns, and the g-forces exerted on the tiedowns.

VI. FMCSA Decision

FMCSA appreciates the comments that the use of crib-type trailers for transporting wood products is the safest way to secure the load due to their safety record on the highways. Further, FMCSA believes that a vehicle manufactured as a crib-type log trailer as defined in § 393.5 will provide restraint of the shortwood logs in the lateral and longitudinal directions, even when the rear- or front-end structure are replaced with one or two tie downs, respectively.

Crib-type trailers use stakes, bunks, a front-end structure, and a rear structure to restrain logs on trailers. The stakes prevent movement of logs from side to side on the vehicle while the front-end and rear structures prevent movement of the logs from front to back on the vehicle. The intent of such systems is to enable motor carriers to transport logs without the use of wrapper chains or straps to secure the load, thereby expediting the loading and unloading process. The Agency believes that a single tiedown is adequate to secure stacks of shortwood logs in the longitudinal direction if the gates are removed, or when positioned immediately adjacent to a space between stacks such that a log could theoretically move in the forward or rearward direction and not be continually in contact with at least two stakes, such as that created by a center-mounted crane for loading and unloading logs.

The cargo securement test conducted by GLTPA in collaboration with the Wisconsin State Patrol Motor Carrier Enforcement Section demonstrated that the one-tiedown securement method meets the specified requirements in 49 CFR 393.102. This collaborative effort further strengthens the evidence supporting the effectiveness of using one tiedown for transporting shortwood logs loaded lengthwise in a crib-type vehicles that have been manufactured or modified and no longer meet the crib-type trailer definition in § 393.5.

Accordingly, FMCSA concludes that the alternative cargo securement techniques proposed in GLTPA's application are likely to achieve a level of safety that is equivalent to, or greater than, the level of safety achieved without the exemption.

VII. Terms and Conditions for the Exemption

1. This exemption is limited to motor carriers within the state of Wisconsin engaged exclusively in the transportation of shortwood logs loaded lengthwise using crib-type vehicles that have been modified or manufactured without front structures, rear structures, or which have an internal gap such as that created by a center-mounted crane for loading and unloading. However, it does not apply to any other cargo type or other trailer configuration.

2. Logs transported in a crib or bunk type vehicle without a front structure will require at least two tiedowns on the foremost stack. All other stacks will not require tiedowns provided they are loaded in accordance with 49 CFR 393.116(b)(2) and 49 CFR 393.116(c).

3. Logs transported in a crib or bunk vehicle without a rear structure will require at least one tie down on the rearmost stack. All other stacks will not require tiedowns provided they are loaded in accordance with 49 CFR 393.116(b)(2) and 49 CFR 393.116(c).

4. Logs transported in a crib or bunk type vehicle having an internal gap between stacks such that a log could theoretically move in the forward or rearward direction and not be continually in contact with at least two stakes, bunks, bolsters or standards will require at least one tiedown on that stack.

5. When one tiedown is used, it must be positioned about midway between the stakes or cross diagonally from the front to the rear crossing midway over the stack.

6. Motor carriers and CMVs operating under this exemption must comply with all other applicable FMCSRs (49 CFR parts 350-399), unless specifically exempted from a requirement.

7. Motor carriers operating under this exemption involved in any crash during the transportation of shortwood logs must notify FMCSA within 7 business days of the crash by email at MCPSV@DOT.GOV, even if such crash is not a recordable crash as defined in § 390.5T.

A. Preemption

In accordance with 49 U.S.C. 31315(d), as implemented by 49 CFR 381.600, during the period this exemption is in effect, no State shall enforce any law or regulation that conflicts with or is inconsistent with this exemption with respect to a person operating under the exemption. States may, but are not required to, adopt the same exemption with respect to operations in intrastate commerce.

B. Termination

The exemption will be valid for 5 years, unless revoked earlier by FMCSA. FMCSA does not believe that motor carriers and CMVs covered by the exemption will experience any deterioration of their safety record. However, should this occur, FMCSA will take all steps necessary to protect the public interest, including revocation of the exemption without prior notice. The exemption may be immediately rescinded if: (1) motor carriers and/or CMVs fail to comply with the terms and conditions of the exemption; (2) the exemption has resulted in a lower level of safety than was maintained before it was granted; or (3) continuation of the exemption would not be consistent with the goals and objectives of 49 U.S.C. 31136(e) or 31315(b).

Interested parties possessing information that would demonstrate that this exemption or motor carriers operating under this exemption in the state of Wisconsin are not achieving the requisite statutory level of safety should immediately notify FMCSA by email at MCPSV@DOT.GOV. The Agency will evaluate any such information and, if safety is being compromised or if the continuation of the exemption is not consistent with the goals and objectives of 49 U.S.C. 31136(e) or 31315(b), will take immediate steps to revoke the exemption or impose additional requirements as part of the exemption.

Vincent G. White,
Acting Administrator.

[FR Doc. 2024-20377 Filed 9-9-24; 8:45 am]

BILLING CODE 4910-EX-P